DEPARTMENT OF COMMERCE

International Trade Administration

[C-570-917]

Laminated Woven Sacks From the People's Republic of China: Countervailing Duty Order

AGENCY: Import Administration, International Trade Administration, Department of Commerce.

SUMMARY: Based on an affirmative final determination by the U.S. International Trade Commission (ITC), the Department of Commerce (the Department) is issuing a countervailing duty order on Laminated Woven Sacks (LWS) from the People's Republic of China (PRC). On July 30, 2008, the ITC notified the Department of its affirmative determination of material injury to a U.S. industry and its negative determination of critical circumstances. See Laminated Woven Sacks from the People's Republic of China, USITC Pub. 4025, Inv. Nos. 701-TA-450 (Final) (July 2008).

Dated: Effective Date: August 7, 2008.

Contact Information: Gene Calvert or Paul Matino, AD/CVD Operations, Office 6, Import Administration, International Trade Administration, Department of Commerce, 14th Street and Constitution Avenue, NW., Washington, DC 20230; telephone: (202) 482-3586 or (202) 482-4146, respectively.

SUPPLEMENTARY INFORMATION:

Scope of the Order

The merchandise covered by this order is laminated woven sacks. Laminated woven sacks are bags or sacks consisting of one or more plies of fabric consisting of woven polypropylene strip and/or woven polyethylene strip, regardless of the width of the strip; with or without an extrusion coating of polypropylene and/or polyethylene on one or both sides of the fabric; laminated by any method either to an exterior ply of plastic film such as biaxially-oriented polypropylene (BOPP) or to an exterior ply of paper that is suitable for high quality print graphics; ¹ printed with three colors or more in register; with or without lining; whether or not closed on one end; whether or not in roll form (including sheets, lay-flat tubing, and sleeves); with or without handles; with or without special closing features; not exceeding one kilogram in weight. Laminated woven sacks are typically used for retail packaging of consumer goods such as pet foods and bird seed.

¹ “Paper suitable for high quality print graphics,” as used herein, means paper having an ISO brightness of 82 or higher and a Sheffield Smoothness of 250 or less. Coated free sheet is an example of a paper suitable for high quality print graphics.

Effective July 1, 2007, laminated woven sacks are classifiable under Harmonized Tariff Schedule of the United States (HTSUS) subheadings 6305.33.0050 and 6305.33.0080. Laminated woven sacks were previously classifiable under HTSUS subheading 6305.33.0020. If entered with plastic coating on both sides of the fabric consisting of woven polypropylene strip and/or woven polyethylene strip, laminated woven sacks may be classifiable under HTSUS subheadings 3923.21.0080, 3923.21.0095, and 3923.29.0000. If entered not closed on one end or in roll form (including sheets, lay-flat tubing, and sleeves), laminated woven sacks may be classifiable under other HTSUS subheadings including 3917.39.0050, 3921.90.1100, 3921.90.1500, and 5903.90.2500.

If the polypropylene strips and/or polyethylene strips making up the fabric measure more than 5 millimeters in width, laminated woven sacks may be classifiable under other HTSUS subheadings including 4601.99.0500, 4601.99.9000, and 4602.90.000. Although HTSUS subheadings are provided for convenience and customs purposes, the written description of the scope of this order is dispositive.

Countervailing Duty Order

In accordance with section 705(d) of the Tariff Act of 1930, as amended (the Act), on June 24, 2008, the Department published its final determination in the countervailing duty investigation of LWS from the PRC. See Laminated Woven Sacks from the People's Republic of China: Final Affirmative Countervailing Determination and Final Affirmative Determination, in Part, of Critical Circumstances, 73 FR 35639 (June 24, 2008).

On July 30, 2008, the ITC notified the Department of its final determination, pursuant to section 705(b)(1)(A)(i) of the Act, that an industry in the United States is materially injured as a result of subsidized imports of LWS from the PRC.

The ITC determined that critical circumstances do not exist with respect to subject imports from the PRC. As a result of the ITC's negative critical circumstances determination, U.S. Customs and Border Protection (CBP) will refund all cash deposits and release all bonds collected on LWS from the PRC entered or withdrawn from warehouse, for consumption on or after September 4, 2007, and before December 3, 2007.

Countervailing duties will be assessed on all unliquidated entries of LWS from the PRC entered, or withdrawn from warehouse, for consumption on or after December 3, 2007, the date on which the Department published its preliminary affirmative countervailing duty determination in the Federal Register, and before April 1, 2008, the date on which the Department instructed the CBP to discontinue the suspension of liquidation in accordance with section 703(d) of the Act, and on all entries of subject merchandise made on or after the date of publication of the ITC's final injury determination in the Federal Register. Section 703(d) states that the suspension of liquidation pursuant to a preliminary determination may not remain in effect for more than four months. Entries of LWS made on or after April 1, 2008, and prior to the date of publication of the ITC's final determination in the Federal Register are not liable for the assessment of countervailing duties due to the Department's discontinuation, effective April 1, 2008, of the suspension of liquidation.

In accordance with section 706 of the Act, the Department will direct CBP to reinstitute the suspension of liquidation for LWS from the PRC, effective the date of publication of the ITC's notice of final determination in the Federal Register, and to assess, upon further advice by the Department pursuant to section 706(a)(1) of the Act, countervailing duties for each entry of the subject merchandise in an amount based on the net countervailable subsidy rates for the subject merchandise. On or after the date of publication of the ITC's final injury determination in the Federal Register, CBP must require, at the same time as importers would normally deposit estimated duties on this merchandise, a cash deposit equal to the rates noted below:

Producer/exporter | Net subsidy rate (percent)
Han Shing Chemical Co., Ltd. (Han Shing Chemical) | 223.74
Ningbo Yong Feng packaging Co., Ltd. (Ningbo) | 223.74
Shandong Qilu Plastic Fabric Group, Ltd. (Qilu) | 304.40
Shandong Shouguang Jianyuan Chun Co., Ltd. (SSJ)/Shandong Longxing Plastic Products Company Ltd. (SLP) | 352.82
Zibo Aifudi Plastic Packaging Co., Ltd. (Aifudi) | 29.54
All Others | 226.85

This notice constitutes the countervailing duty order with respect to LWS from the PRC pursuant to section 706(a) of the Act. Interested parties may contact the Central Records Unit (CRU), Room 1117 of the main Commerce building, for copies of an updated list of countervailing duty orders currently in effect.

This countervailing duty order is issued and published in accordance with sections 705(c)(2) and 705(d) of the Act and 19 CFR 351.211.

Dated: August 4, 2008.
David M. Spooner,
Assistant Secretary for Import Administration.

[FR Doc. E8-18195 Filed 8-6-08; 8:45 am]

BILLING CODE 3510-DS-P